DEPARTMENT OF VETERANS AFFAIRS

38 CFR Part 3

RIN 2900-AL38

Testimony Certified or Under Oath

AGENCY: Department of Veterans Affairs.

ACTION: Withdrawal of proposed rule.

SUMMARY: This document withdraws a proposed rule that would have removed the adjudication regulation that requires written and oral testimony to be certified or given under oath or affirmation in most cases. This proposed rule was erroneously published in the Federal Register on July 31, 2002, at 67 FR 49646, under a previously deleted Regulatory Identification Number (RIN 2900-AK24). The proposal is being withdrawn because the Department of Veterans Affairs is revising and republishing its part 3 compensation and pension regulations to make them easier to understand and apply. To ensure that this proposal is consistent with other related regulations being rewritten and published in that project, it is being withdrawn at this time. The Regulation Rewrite Project plans to republish this proposed rulemaking within one of its packages of regulations, “General Evidence Requirements, Effective Dates, Revision of Decisions, and Protection of Existing Ratings.”

FOR FURTHER INFORMATION CONTACT: Bill Russo, Chief of C&P Rewrite Projects (00REG2), Office of Regulation Policy and Management, Department of Veterans Affairs, 810 Vermont Avenue, NW., Washington, DC 20420, telephone (202) 273-9515. This is not a toll-free number.

Approved: February 3, 2004.
Anthony J. Principi,
Secretary of Veterans Affairs.

[FR Doc. 04-2795 Filed 2-9-04; 8:45 am]

BILLING CODE 8320-01-P